SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before May 2, 2003.

ADDRESSES: Send all comments regarding whether these information collections are necessary for the proper performance of the function of the agency, whether the burden estimates are accurate, and if there are ways to minimize the estimated burden and enhance the quality of the collections, to Thomas Mueller, Deputy Associate Administrator, Office of Small Business Development Centers, Small Business Administration, 409 3rd Street, SW., Suite 6400, Washington DC 20416.

FOR FURTHER INFORMATION CONTACT: Thomas Mueller, Deputy Associate Administrator, (202) 205-7301 or Curtis B. Rich, Management Analyst, (202) 205-7030.

SUPPLEMENTARY INFORMATION: Title: SBA Counseling Evaluation.

Form No: 1419.

Description of Respondents: Small Business Clients.

Annual Responses: 2,800.

Annual Burden: 476.

Title: National Training Participant Evaluation Questionnaire.

Form No: 20.

Description of Respondents: Individuals Receiving SBA Training and Counseling Assistance.

Annual Responses: 26,000.

Annual Burden: 6,500.

Jacqueline White,
Chief, Administrative Information Branch.

[FR Doc. 03-4932 Filed 2-28-03; 8:45 am]

BILLING CODE 8025-01-P